DEPARTMENT OF COMMERCE

Foreign-Trade Zones Board

[B-6-2015]

Foreign-Trade Zone 27; Boston, Massachusetts; Application for Subzone Spectro Coating Corporation d/b/a Claremont Flock, LLC; Leominster, Massachusetts

An application has been submitted to the Foreign-Trade Zones (FTZ) Board by the Massachusetts Port Authority, grantee of FTZ 27, requesting subzone status for the facility of Spectro Coating Corporation d/b/a Claremont Flock, LLC, located in Leominster, Massachusetts. The application was submitted pursuant to the provisions of the Foreign-Trade Zones Act, as amended (19 U.S.C. 81a-81u), and the regulations of the FTZ Board (15 CFR part 400). It was formally docketed on February 3, 2015.

The proposed subzone (14.45 acres) is located at 107 Scott Drive, Leominster, Massachusetts. A notification of proposed production activity has been submitted and will be published separately for public comment.

In accordance with the FTZ Board's regulations, Kathleen Boyce of the FTZ Staff is designated examiner to review the application and make recommendations to the FTZ Board.

Public comment is invited from interested parties. Submissions shall be addressed to the FTZ Board's Executive Secretary at the address below. The closing period for their receipt is March 23, 2015. Rebuttal comments in response to material submitted during the foregoing period may be submitted during the subsequent 15-day period to April 6, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: February 4, 2015.
Andrew McGilvray,
Executive Secretary.

[FR Doc. 2015-02736 Filed 2-9-15; 8:45 am]

BILLING CODE 3510-DS-P